DEPARTMENT OF HEALTH AND HUMAN SERVICES

Office of the Secretary

[Document Identifier HHS-OS-17378-60D]

Agency Information Collection Activities; Proposed Collection; Public Comment Request

ACTION: 60-day Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR. OS especially requests comments on (1) The necessity and utility of the proposed information collection for the proper performance of the agency's functions, (2) the accuracy of the estimated burden, (3) ways to enhance the quality, utility, and clarity of the information to be collected, and (4) the use of automated collection techniques or other forms of information technology to minimize the information collection burden.

Deadline: Comments on the ICR must be received within 60 days of the issuance of this notice.

ADDRESSES: Submit your comments, including the document identifier HHS-OS-17378-60D, to Information.CollectionClearance@hhs.gov or by calling (202) 690-6162. Copies of the supporting statement and any related forms for the ICR may also be requested through the above email or telephone number.

Information Collection Request Title: Evaluation of the National Partnership for Action to End Health Disparities.

Abstract: OMH in the Office of the Assistant Secretary for Health (OASH), Office of the Secretary (OS) is requesting approval from the Office of Management and Budget (OMB) for new data collection activities for the Evaluation of the National Partnership for Action to End Health Disparities (NPA). The NPA was officially launched in April 2011 to mobilize a nationwide, comprehensive, community-driven, and sustained approach to combating health disparities and to move the nation toward achieving health equity. Using an approach that vests those at the front line with the responsibility of identifying and helping to shape core actions, new approaches and new partnerships are being established to help close the health gap in the United States.

OMH proposes to conduct an evaluation of the NPA. The evaluation's goal is to determine the extent to which the NPA has contributed to the elimination of health disparities and attainment of health equity in our nation. The evaluation will accomplish this goal by (1) Determining the degree to which a structure (e.g., partnerships, programmatic reach, communications, committees) to implement the NPA goals and strategies has been established; (2) The collection, analysis, and summarization of baseline data for core indicators of immediate and intermediate outcomes (e.g., changes in policy, procedures, and practices to diversify workforce, promote cultural competency, affect social determinants, build leadership, and increase public support for ending health disparities and achieving health equity); (3) Developing criteria for promising practices for ending health disparities and identifying such practices; (4) Beginning to monitor data on social determinants of health and health outcomes using secondary sources.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Forms | Type of respondent | Number of respondents | Number of responses per respondent | Average burden (in hours) per response | Total burden hours
FIHET agency survey | Agency | 48 | 1 | .52 | 24.96
FIHET interviews | Agency | 16 | 1 | 1.17 | 18.72
RHEC co-chairs interview | Individual | 20 | 1 | 1.42 | 28.4
RHEC sub-chairs group interviews | Individual | 50 | 1 | 1.5 | 75
Survey of all RHEC members | Individual | 350 | 1 | .67 | 234.5
Survey of key NPA partner organizations | Organizational | 15 | 1 | .44 | 6.6
Survey of State Minority Health Office Directors or Coordinators and officials from State Departments of Health | Agency | 110 | 1 | .48 | 52.8
Total |  | 609 |  |  | 440.98

Keith A. Tucker,
Information Collection Clearance Officer, Department of Health and Human Services.

[FR Doc. 2012-23773 Filed 9-26-12; 8:45 am]

BILLING CODE 4150-33-P